DEPARTMENT OF DEFENSE

Department of the Navy

Meeting of the Board of Advisors (BOA) to the Superintendent, Naval Postgraduate School (NPS)

AGENCY: Department of the Navy, DOD.

ACTION: Notice of open meeting.

SUMMARY: The purpose of the meeting is to elicit the advice of the board on the Naval Service's Postgraduate Education Program and the collaborative exchange and partnership between NPS and the Air Force Institute of Technology (AFIT). The board examines the effectiveness with which the NPS is accomplishing its mission. To this end, the board will inquire into the curricula; instruction; physical equipment; administration; state of morale of the student body, faculty, and staff; fiscal affairs; and any other matters relating to the operation of the NPS as the board considers pertinent. This meeting will be open to the public.

DATES: The meeting will be held on Wednesday, October 20, 2004, from 8 a.m. to 4 p.m. and on Thursday, October 21, 2004, from 8 a.m. to 12 p.m. All written comments regarding the NPS BOA should be received by October 8, 2004, and be directed to Superintendent, Naval Postgraduate School (Attn: Jaye Panza), 1 University Circle, Monterey, CA 93943-5000 or by fax (831) 656-3145.

ADDRESSES: The meeting will be held at CNAC, 4825 Mark Center Drive, Alexandria, VA.

FOR FURTHER INFORMATION CONTACT: Jaye Panza, Naval Postgraduate School, Monterey, CA, 93943-5000, telephone number (831) 656-2514.

Dated: September 15, 2004.
J. H. Wagshul,
Commander, Judge Advocate General's Corps, U.S. Navy, Federal Register Liaison Officer.

[FR Doc. 04-21546 Filed 9-24-04; 8:45 am]

BILLING CODE 3810-FF-P